DEPARTMENT OF HEALTH AND HUMAN SERVICES

National Institutes of Health

Center for Scientific Review; Amended Notice of Meeting

Notice is hereby given of a change in the meeting of the Skeletal Muscle and Exercise Physiology Study Section, June 12, 2008, 8:30 a.m. to June 13, 2008, 5 p.m., The Westin St. Francis, 335 Powell Street, San Francisco, CA 94102 which was published in the Federal Register on April 29, 2008, 73 FR 23257-23259.

The meeting will be held one day only June 12, 2008, from 8:30 a.m. to 6 p.m. The meeting location remains the same. The meeting is closed to the public.

Dated: May 15, 2008.
Jennifer Spaeth,
Director, Office of Federal Advisory Committee Policy.

[FR Doc. E8-11492 Filed 5-22-08; 8:45 am]

BILLING CODE 4140-01-M